DEPARTMENT OF HEALTH AND HUMAN SERVICES

Office of the Secretary

Funding Opportunity Title: Safe and Bright Futures for Children Initiative

ANNOUNCEMENT TYPE: Initial.

CFDA Number: 93.990.

DATES: Applications are due no later than September 9, 2004.

SUMMARY: This notice announces the availability of fiscal year (FY) 2004 grant funds for the Safe and Bright Futures for Children Initiative—a program to diminish the damaging effects of domestic violence on children and adolescents and to stop the cycles of abuse and intentional injury. Approximately $2.2 million in funding is available on a competitive basis for a maximum of up to 30 grants for Phase One of the Safe and Bright Futures for Children Initiative. Phase One consists of 2 years strategic planning (as outlined in Application and Submission Information—Section IV). It is expected that the first year award will begin on or about September 30, 2004 and will be for a 12-month budget period. The second year award will require a non-competing continuation application and be made on or about September 30, 2005, depending on grantee performance and availability of funds and be for a 12-month budget period. Each grantee will be funded approximately $ 75,000 each year of the 2-year project period. Applicants must demonstrate direct experience with domestic violence prevention or show ability to partner with relevant domestic violence prevention community agencies. Phase Two—Safe and Bright Futures for Children Implementation Grants—will be competitively awarded, under a separate announcement, to approximately 8 of the Phase One planning grantees in FY 2006. It is anticipated that approximately $500,000 a year for each of the three years, depending on availability of funds, will be awarded. Implementation plans, as developed in the planning years would be submitted as a competing application for objective competitive peer review; implementation (continuation) funding will be contingent on peer review approval, score, and award preferences criteria.

I. Funding Opportunity Description

The Office of Public Health and Science (OPHS) of the Department of Health and Human Services (DHHS) announces the availability of funds for FY 2004 and requests applications for grants for Phase One of the Safe and Bright Futures for Children Initiative—a program to diminish the damaging effects of domestic violence on children and adolescents and to stop the cycles of abuse and intentional injury.

The OPHS is under the direction of the Assistant Secretary for Health (ASH), who serves as the Senior Advisor on public health and science issues to the Secretary of the Department of Health and Human Services. The Office serves as the focal point for leadership and coordination across the Department in public health and science, provides direction to program offices within OPHS; and provides advice and counsel on public health and science issues to the Secretary.

The prosperity of our nation rests upon the health of our children. Accordingly, securing a bright future must begin with ensuring the health and safety of our children. Of the many threats to their well being, one of the most devastating is the trauma experienced by witnessing parent conflict and the violation of safety and security in the home. Domestic violence is also a generational problem that perpetuates a dangerous cycle of both abusers and victims of abuse. As such, it is important to recognize that the primacy of safety first for children relies on providing safety and assistance to the non-abusing parent or primary caregiver, in ending violence in the home. Providing safety and preventive or intervention services to the non-abusing caregiver(s) and teaching children and adolescents by example that it is unacceptable to resolve the problems of life by violent means is essential for their well-being.

Too often children who reside in homes where domestic violence occurs are not identified; when they are, they do not receive the necessary and appropriate help, either related to the trauma surrounding the precipitating event or with regard to long term follow-up and follow-through needs. The systems of support for battered parents/caregivers and the systems of accountability for those perpetrating interpersonal violence are often not well geared for addressing the developmental, social, emotional, or behavioral needs of children or adolescents. New promising approaches for working with children exposed to violence and their parents/caregivers are emerging. This initiative seeks to encourage communities to plan for, develop, implement and sustain a coordinated system of prevention, intervention, treatment, and follow-through services for children who have witnessed or been exposed to domestic violence and their families.

The Safe and Bright Futures for Children Initiative is a multi-agency collaboration within the DHHS which builds on the President's existing efforts to combat violence against women and families. Resources will be competitively available to support the implementation of projects that will become models of community prevention and intervention for children/adolescent who are witnesses of or those exposed to domestic violence. The initiative will support coordination of services, necessary expansion or enhancement of services at the community or regional level which are age-appropriate, culturally- and linguistically-appropriate. The initiative will build on community assets and strengthen collaborations between local government, and community- and/or faith-based programs that can prevent or intervene, identify, assess, treat, and provide follow-up services to the target population. It is anticipated and intended that proceeds from the “Stop Family Violence” semi postal stamp, released in 2003, will be used for this initiative in fiscal years 2006-2009.

In order to produce the coordinated system and service enhancement design, grantees will be required to accomplish tasks based on strategic planning that targets specific child/adolescent service outcomes which are community specific and appropriate for the population to be served. This initiative and planning phase also provides a vehicle for communities to integrate existing Federal programs focused on this population. (Applicants are directed to http://harvester.census.gov/CFFR/index.html to identity existing Federal programs in their areas).

This DHHS-sponsored Safe and Bright Futures for Children Initiative is announced in concert with a related activity being undertaken by the Department of Justice (DOJ) which also supports the President's domestic violence prevention efforts. The DOJ will award grants to 12 communities for the creation of Family Justice Centers to provide medical care, counseling, law enforcement, social services, employment assistance, and housing assistance together in one location. To the extent applicable, communities that receive a Safe and Bright Futures for Children grant, will be required to demonstrate linkage with a DOJ-sponsored Family Justice Center either as a planning partner or during the implementation phase of this initiative.

Program Statutes

Sections 1701-1704 of the Public Health Service (PHS) Act authorize the Secretary to undertake and support, through improved planning and implementation of tested models and evaluation of results, effective and efficient programs respecting health information and health promotion, preventive health services, and the education in the appropriate use of health care. Additional applicable program authorities of the Department of Health and Human Services relevant to the implementation of this activity include: Sections 301 (general authority), 392(b), 393 (relating to violence prevention) and 501(d) (relating to substance abuse prevention and treatment and mental health services) of the PHS Act. Title V of the Social Security Act (relating to maternal and child health) is also applicable.

II. Award Information

Funding Instrument Type: Grant.

Anticipated Total Funding: $2,200,000.00.

Anticipated Number of Awards: Up to 30.

Amount of Individual Awards: Up to $75,000.00.

Project Period for Award: 24 months.

Anticipated Start Date: September 30, 2004.

III. Eligibility Information

1. Eligible Applicants

To qualify for funding, an applicant must be a public or private non-profit entity, including but not limited to child/adolescent-serving local government agency, community-based or faith-based entity or organization located in a State or U.S. Territory, or Federally recognized Tribe or Tribal Organization. States may only apply on behalf of a coalition of entities for a State-defined community to develop or enhance a community system. Since this initiative is intended to be a community effort with focus on diminishing the impact of domestic violence, it is required that a primary partner be from the domain of service providers in a community that engage in domestic violence prevention or intervention services. Other organizations that are experienced in the areas of injury/violence prevention, protection, safety, identification, assessment and treatment of children and adolescents who have witnessed or been exposed to domestic violence and in working with victims and perpetrators, mental health providers with expertise in trauma-related services are encouraged to be included as partners.

2. Cost Sharing or Matching

None.

3. Other

Applicants are required to have a Dun and Bradstreet Data Universal Numbering System (DUNS) number to apply for a grant or Cooperative Agreement from the Federal Government. The DUNS number is a nine digit identification number, which uniquely identifies business entities. Obtaining a DUNS number is easy and there is no charge. To obtain a DUNS number, access either the web site: https://www/dnb.com/product/eupdate/requestOptions.html or call 1-866-705-5711. Be sure to click on the link that reads, “DUNS Number Only” at the right hand bottom corner of the screen to access the free registration page. Please note that registration via the web site may take up to 30 business days to complete.

IV. Application and Submission Information

1. Address To Request Application Package

Application kits are available from and shall be submitted to the Department of Health and Human Services, Office of Public Health and Science, Office of Grants Management, 1101 Wootton Parkway, Suite 550, Rockville, MD 20853. Send the original and 2 copies of the complete application to this address. Application kits may also be obtained by calling the Office of Grants Management, (301) 594-0758 between the hours of 8 a.m. and 5 p.m. EST. For Further Programmatic Information Contact: Woodie Kessel, M.D., M.P.H., wkessel@osophs.dhhs.gov, 202-401-6295.

2. Content and Form of Application Submission

For this grant, applications must be submitted on the Form PHS-5161-1 (Revised 07/00) and in the manner prescribed in the application kit. An applicant is advised to pay close attention to the specific program guidelines and general instructions provided in the kit.

Applicants are required to submit an original application signed by an individual authorized to act for the applicant agency or organization and to assume for the organization the obligations imposed by the terms and conditions of the grant award. Applicants are required to submit an original application and two copies. Applications are limited to 25 double-spaced pages, not including appendices and be in 12-point font. Appendices may include curriculum vitae and other evidence of organizational capabilities.

Applications must include a one-page abstract of the proposed project. The abstract will be used to provide reviewers with an overview of the application, and will form the basis for the application summary in grants management documents.

It is the practice of the Office of Disease Prevention and Health Promotion (ODPHP), in the Office of Public Health and Science, to maintain a summary of grants and to post this information on the ODPHP web site. The abstract will be used as the basis for this posting and for other requests for summary information regarding funded grants.

Grantees under this program will implement a strategic planning and design process that yields a realistic coordinated service system model with service enhancements. The strategic plan will guide implementation, monitoring, and evaluation of ongoing modifications which will result from feedback and influence future system development. Applicants must address each of the areas below and in similar sequence in the application:

Understanding of Methodologies for planning a continuous and coordinated system of identification, protection, and care for children and adolescents, including those with special needs, who witness or are exposed to domestic violence. Specifically, the applicant must address how it will:

(a) Establish an inclusive and participatory format that ensures engagement in and acceptance of the planning process and specific outcome expectations by key community stakeholders, including but not limited to: e.g., domestic violence prevention and service providers and advocates, family members/caregivers, children and adolescents; community- and faith-based organizations; child protective services; schools; law enforcement/judicial system representatives, including Tribal courts where applicable; public and/or private practitioners from child welfare, health and behavioral health, schools; and agencies providing job training/placement and housing services. Applicants may utilize and build on an existing community/provider partnership or coalition. Where this is case, applicant must describe how the partnership will be expanded to include the required service providers (i.e., domestic violence prevention/intervention services) and address the requirements of this initiative. The applicant also must document its experience and success with planning of coordinated programs.

(b) Design an approach to assessing need and organizing a coordinated system of intervention and care for children, adolescents and their families, including children with special needs and the non-abusing primary caregiver(s), that includes mental health services such as child trauma services or victim counseling, child/adolescent/family counseling; protection and safety; health care services; substance abuse prevention and treatment services; and supportive and/or ancillary services (e.g., legal advocacy, transportation), important to meeting the comprehensive needs of the target population. In designing the approach to assess needs and coordinate services, attention should given to the cultural diversity and corresponding issues within the community, as well as developmental or social concerns for the target population, e.g., age, gender, sexual orientation, language, socio-economic status.

(c) Identify the evaluation parameters (as designated by the community) and outcome measures that will be used to determine the level of success of the implemented service system model (such as ranking priorities from among topics like access to services, rate of emergency department use, school success and connectedness, enhancing resilience, juvenile justice involvement, family stability, change in service capacity, and cost offsets) and its level of functioning (such as ranking priorities from topics such as client/community/staff satisfaction, identification and severity of diagnosis, financial stability). Note that both outcome and process evaluations should be considered in the planning effort. Identified evaluation processes should be evidenced-based and rely on current research, to the extent possible.

(d) Describe how the collaboration will support non-offending parents (or primary caregivers) in seeking greater safety for their children and themselves as a step in the process of ameliorating the effects of domestic violence on children.

(e) Develop a resource strategy, including cost offsets from other systems, that creates a realistic framework for implementation and shows how community agencies/stakeholders will obtain and invest various resources, both public and private, into the integrated services system model with a goal of financial sustainability.

(f) To the extent applicable, identify and demonstrate collaboration and linkages with other related DHHS and Federal initiatives or programs in the applicant's community that address prevention, early intervention and treatment for children who are exposed to or witness domestic violence and their families, and how these programs will be incorporated into the planning process; how they will be involved with implementation; and their role with maintaining the established integrated model of coordinated care. (See http://harvester.census.gov/CFFR/index.html to access a listing of Federally-supported programs in a community).

The applicant should describe how the following dimensions will be addressed in the planning process:

(a) Governance and executive leadership.

(b) Coordination of organizational structures and staff; configurations of staff.

(c) Operations and management; accountability.

(d) Facilities and equipment; materials and supplies.

(e) Financing and allocation of resources; blending of funds and resources; fiscal management; fiscal sustainability.

(f) Legal and regulatory issues, including confidentiality and safety issues for the target population and non-offending parents or primary caregivers.

(g) Involvement and interactions among diverse disciplines; human resources development and management; organizational culture and work climate; relationships with external care providers.

(h) Education, training and supervision of clinicians, administrators, social workers, teachers, and support staff; needs of health professions students and professionals-in-training.

(i) Information systems and medical record keeping including confidentiality of client/family information.

(j) Quality assessment and strategies for improvement, evaluation (process and outcomes), and performance results.

(k) On-going strategic planning for future development and growth; flexibility and ability to accommodate a changing environment should also be addressed.

Understanding the issues of the target population and community as an essential part of planning for a coordinated services system model. Applicant will describe a vision of the existing and enhanced services for the target population based on the service needs and outcome expectations of the target community and describe the challenges, in terms of both opportunities and barriers, related to designing a coordinated system, filling service gaps, and sustaining a coordinated system, across the various child/adolescent-serving agencies which address the target population, including but not limited to: Police, emergency rooms, child welfare, family and juvenile court judges, child protective services, domestic abuse shelters, schools, and health and mental health service providers.

Organization Capabilities/Resources Management Plan

The applicant will demonstrate that it has the capacity to engage the relevant local agency stakeholders in the planning process. Application will address:

(a) Experience with similar planning activities and experience with the target population of children, adolescents, and their families/caregivers;

(b) Experience of proposed leadership, including past endeavors that involved relationships with multiple stakeholders;

(c) Commitment to developing and sustaining working relationships among key stakeholders, with the goal of designing and ultimately implementing a coordinated services program. The demonstration of explicit leadership commitment to this collaborative project will be established through jointly signed letters from the applicant organization with the directors of each participating agency/organization. Each letter should state: (a) Which organization/agency/program will be responsible for the grant award (that is, serve as the grantee and assume fiscal and managerial responsibility for the funding); (b) how planning and leadership will be organized; (c) commitment to full engagement in the planning process, and if selected for Phase Two of this initiative, full commitment to the future implementation of the developed integrated services system that was produced from the planning process. These letters should be contained in the Appendix, “Letters of Agreement.”

(d) Description of its organizational structure in relation to: sponsoring organizations, designated planning and support personnel, the target community, and specifically with regard to leading the planning in terms of: (1) Time frames for performance; (2) resources proposed for each task (e.g., staffing, consultants, collaborating agencies, facilities, equipment, information systems, and (3) a staffing/management plan.

(e) How proposed planning activities will be monitored and tracked.

(f) Description of contingency efforts that might be undertaken to implement the plan in part or as a whole if implementation funding is not available.

Experience of Key Personnel

Applicant will describe qualifications and experience of the designated planning director and other key personnel as well as the qualifications and experience of staff from the partnering organizations, agencies and programs, consultants, and subcontractors. Resumes and/or curricula vitae should be included in Appendices.

Budget

Applicant will submit a detailed budget on form SF-424a with complete budget justification for each line item in the budget categories of the application. See Form PHS-5161-1 (Revised 7/00). Budget should reflect appropriate costs of up to $150,000.00 for the entire 2 year planning process. Submit year 1 and year 2 budgets separately.

Budget must reflect costs travel costs for up to 2 key personnel to attend one 2-day meeting in Washington, DC at mid-project period.

3. Submission Dates and Times

To receive consideration, applications must be received by the Office of Public Health and Science, Office of Grants Management by 5 p.m. EDT on September 9, 2004. Applications received after the exact date and time specified for receipt will not be accepted. The application due date requirement specified in this announcement supercedes the instruction in the PHS 5161-1. Applications submitted by facsimile transmission (FAX) or any other electronic format will not be accepted. Applications which do not meet the deadline or format requirements, specified under Content and Form of Application Submission, will not be accepted for review and will be returned to the applicant unread.

4. Intergovernmental Reivew

Applicants under this announcement are not subject to the requirements of Executive Order 12372, “Intergovernmental Review of Federal Programs.”

5. Funding Restrictions

Funds cannot be used for construction or renovation, to purchase or lease vehicles or vans, to purchase a facility to house project staff or carry out project activities, or to substitute new activities and expenditures for current ones. The allowability, allocability, reasonableness, and necessity of direct and indirect costs that may be charged to OPHS grants are outlined in the following documents: OMB Circular A-21 (Institutions of Higher education); OMB Circular A-87 (State and Local Governments); OMB Circular A-122 (Non-Profit Organizations); and 45 CFR Part 74, Appendix E (Hospitals). Copies of the Office of Management and Budget (OMB) Circulars are available on the internet at http://www.whitehouse.gov/omb/grants/grants_circulars.html.

6. Submission Requirements

Applications must be submitted to the U.S. Department of Health and Human Services, Office of Public Health and Science, Officer of Grants Management, 1101 Wootton Parkway, Suite 550, Rockville, Maryland, 20852; (301) 594-0758. Attention: Ms. Karen Campbell.

V. Application Review Information

1. Criteria

Each application will be evaluated individually against the following criteria by a panel of independent reviewers appointed by OPHS. Before the review panel convenes, each application will be screened for applicant organization eligibility, as well as to make sure the application contains all the essential elements. Applications received from ineligible organizations and applications received after the deadline will be withdrawn from further consideration. Applications that do not conform to the requirements of this program announcement will not be accepted for review and will be returned to the applicant. Applications sent via facsimile or electronic mail will not be accepted for review. Applicants that meet the requirements of this program announcement will be notified by the Office of Grants Management. A panel of at least three reviewers will use the evaluation criteria listed below to determine the strengths and weaknesses of each application, provide comments and assign numerical scores. Applicants should address each criterion in the project application. The point value (summing up to 100) indicated the maximum numerical weight each criterion will be accorded in the review process.

Criterion 1: Planning Methodology (30 Points)

The extent to which the applicant understands the methodologies for planning and designing an effective, organized and coordinated system of comprehensive services for children and adolescents, including those with special needs, who witness or are exposed to domestic violence, and their families.

That applicant has demonstrated an inclusive and participatory process which involves the key community stakeholders, and includes a local provider(s) of domestic violence prevention and intervention services as a primary partner.

If applicable, the appropriateness of using an existing partnership or coalition, its potential for successfully planning a coordinated system of services, as evidenced by documented experience and success with previous strategic planning, and how required service providers, not already a part of the existing partnership or coalition will be included. This includes linkage or collaboration with other related DHHS and Federal initiatives that address prevention, early intervention and treatment for children who are exposed to or witness domestic violence and their families and how they will be incorporated into the planning process, involved with implementation, maintaining the proposed model of care.

Appropriateness of Proposed Governance Structure

The extent to which the proposed planning process will determine need and guide development of a coordinated services system that includes the required and supportive services to meet the comprehensive needs of the target population and with attention to age, development stages, racial/ethnic, cultural, language, gender, sexual orientation, socio-economic status and other community-specific issues identified in the proposed service model design.

The extent to which applicant describes a process for developing an evaluation (of success) and reasonable outcome expectations and measures that the stakeholders will likely adopt and which define the proposed evaluation measures of the expected outcomes. Note that both outcome and process evaluations are to be a part of the planning effort.

The adequacy and appropriateness of the proposed activities to develop a resource strategy which is likely to create a realistic framework for implementation and shows how community agencies/stakeholders will obtain and invest various resources, both public and private, into the coordinated services system model with a goal of financial sustainability.

The extent to which the methodology is appropriate to the applicant's community (will be able to address any problems and barriers associated with the community's current system for children and adolescents and their families) and can be relied upon to yield a clear description of a proposed system.

The extent to which the proposed methodology accommodates a process for assessing the cost of the current and proposed services, including cost offsets from other systems.

Criterion 2: Organization Capabilities/Resource/Management Plan (25 Points).

The extent of applicant's previous experiences in designing integrated systems and/or integrated services models; those that have involved multiple stakeholders, especially with the organizations, agencies, and programs designated as partners to this activity.

Stability of applicant organizational in terms of structure and history, including its relationships to the partnering organizations, among proposed personnel, with the target community, and its ability to obtain and sustain interagency coordination, collaboration and resources. The applicant should affirm the commitment of each collaborating and cooperating agency and describe the intended roles that each agency will play in planning.

Applicant should describe its plan for monitoring and tracking planning activities.

Feasibility of contingency efforts that might be undertaken to implement the plan in part or as a whole if implementation funding is not available.

Criterion 3: Qualifications and Experience of Key Personnel (20 Points)

Qualification and experience of key personnel: Planning director; designated personnel from partnering organizations, agencies and programs; consultants and subcontractors, with domestic violence prevention/intervention programs and activities, especially those for children and adolescents who have been exposed to or witnessed domestic violence and their families.

Criterion 4: Management Plan (15 Points)

Feasibility and appropriateness of the planning process in terms of: (a) Time frames, (b) adequacy and availability of resources (e.g., personnel, consultants, contractors, collaborating agencies, facilities, equipment, information technology resources), and (c) staffing plan, including how the primary staff reflect the target community.

Criterion 5: Budget (10 Points)

Appropriateness of budget and the justification in relation to the proposed activities.

Reasonableness of costs and other necessary details to facilitate the determination of cost allowability and the relevance of these costs to the proposed planning process.

Inclusion of appropriate travel costs for up to 2 key personnel to attend one 2-day meeting in Washington, DC at mid-project period.

2. Review and Selection Process

Each application submitted to the OPHS Office of Grants management will be screened to determine whether it was received by the closing date and time.

The results of a competitive review are a primary factor of the applications and, in light of the results of the competitive review, will recommend applications for funding to the ASH. The ASH reserves the option of discussing applications with other funding sources when this is in the interest of the Federal government. The ASH may also solicit and consider comments from Public Health Services Regional Office staff and others within DHHS in making funding decision. Final grant award decisions will be made by the ASH. The ASH will fund those projects which will, in his/her judgement, best promote the purposes of this program, within the limits of funds available for such projects.

Award Decision Preferences

Final funding decisions for OPHS grants are the responsibility of the Assistant Secretary for Health (ASH). In considering approved applications for funding, preferences may be exercised for groups of applications. Selection preference will be given to the approved applications, under this initiative, based on the following:

Availability of funds.

Evidence of non-supplantation of funds.

Evidence of commitment by the identified stakeholders through letters of commitment which include the defined roles and responsibilities during the planning period.

Evidence of formal coordination/collaboration with a Federal and/or non-Federal organization that has the recognized capacity to provide resources to support/assist in this project. Specifically, and to the extent applicable, linkage with a DOJ supported Family Justice Center.

Equitable distribution of awards in terms of geography, project size, and rural/urban locality; including location of current HHS grantees.

VI. Award Administration Information

1. Award Notices

The OPHS does not release information about individual applications during the review process. When final decisions have been made, successful applicants will be notified by letter of the outcome of the final funding decisions. The official document notifying an applicant that a project has been approved for funding is the Notice of Grant Award (NGA), signed by the OPHS Grants Management Officer, which sets forth the amount of funds granted, the terms and conditions of the award, the effective date of the grant, the budget period for which initial support will be given, and the total project period for which support is contemplated. The OPHS will notify an organization in writing when its application will not be funded. Every effort will be made to notify all unsuccessful applicants as soon as possible after final decisions are made.

2. Administrative and National Policy Requirements

In accepting this award, the grantee stipulates that the award and any activities thereunder are subject to all provisions in 45 CFR parts 74 (non-governmental) and 92 (governmental) currently in effect or implemented during the period of the grant.

The Buy American Act of 1933, as amended (41 U.S.C. 10a-10d), requires that Government agencies give priority to domestic products when making purchasing decisions. Therefore, to the greatest extent practicable, all equipment and products purchased with grant funds should be American-made.

A Notice providing information and guidance regarding the “Government-wide Implementation of the President's Welfare-to-Work Initiative for Federal Grant Programs” was published in the Federal Register on May 16, 1997. This initiative was designated to facilitate and encourage grantees and their subrecipients to hire welfare recipients and to provide additional needed training and/or mentoring as needed. The text of the Notice is available electronically on the OMB homepage at http://www.whitehouse.gov/omb.

The HHS Appropriations Act requires that when issuing statements, press releases, requests for proposals, bid solicitations, and other documents describing projects or programs funded in whole or in part with Federal money, grantees shall clearly state the percentage and dollar amount of the total costs of the program or project which will be financed with Federal money and the percentage and dollar amount of the total costs of the project or program that will be financed by non-governmental sources.

Provision of Smoke-free Workplace and Non-Use of Tobacco Products by Recipients of PHS Grants

The PHS strongly encourages all grant recipients to provide a smoke-free workplace and to promote the non-use of all tobacco products. In addition, Public Law 103-227, the Pro-Children Act of 1994, prohibits smoking in certain facilities (or in some cases, any portion of a facility) in which regular or routine education, library, day care, health care, or early childhood development services are provided to children.

3. Reporting

A successful applicant under this notice will submit: (1) Semi-annual progress reports; (2) a final progress report in the form of the Plan; and (3) a Financial Status Report in the format established in accordance with the provisions of the general regulations which apply under “Monitoring and Reporting Program Performance,” 45 CFR 74.51-74.52, with the exception of State and local governments to which 45 CFR part 92, Subpart C reporting requirements apply. Applicants must submit all required reports in a timely manner, in recommended formats (to be provided) and submit a final report on the project, including any information on evaluation results, at the completion of the project period. Agencies receiving $500,000 or more in total Federal funds are required to undergo an annual audit as described in OMB Circular A-133, “Audits of States, Local Governments, and Non-Profit Organizations.”

Public Health System Reporting Requirements

This program is subject to Public Health System reporting Requirements. Under these requirements, a community-based nongovernmental applicant must prepare and submit a Public Health System Impact Statement (PHSIS). The PHSIS is intended to provide information to State and local health officials to keep them apprised of proposed health services grant applications submitted by community-based organizations within their jurisdictions.

Community-based nongovernmental applicants are required to submit, no later than the Federal due date for receipt of the application, the following information to the head of the appropriate State and local health agencies in the area(s) to be impacted: (a) A Copy of the face page of the applications (SF 424), and (b) a summary of the project (PHSIS), not to exceed one page, which provides: (1) a description of the population to be served, (2) a summary of the services to be provided, and (3) a description of the coordination planned with the appropriate State or local health agencies. Copies of the letters forwarding the PHSIS to these authorities must be contained in the application materials submitted to the Office of Public Health and Science.

VII. Agency Contacts

Grants Management Office Contact: Karen Campbell, Department of Health and Human Services, Office of Public Health and Science, OPHS Grants Management Office, 1101 Wootton Parkway, Suite 550, Rockville, Maryland, 20852. E-mail: Kcampbell@osophs.dhhs.gov; telephone: 301-594-0758. Program Office Contact: Woodie Kessel, Department of Health and Human Services, Office of Public Health and Science, Office of Disease Prevention and Health Promotion, Room 738-G Hubert H. Humphrey Building, 200 Independence Ave., SW., Washington, DC, 20201. E-mail: wkessel@osophs.dhhs.gov; telephone: 202-401-6295.

Dated: July 30, 2004.
Cristina V. Beato,
Acting Assistant Secretary for Health, Office of Public Health and Science.

[FR Doc. 04-17835 Filed 8-4-04; 8:45 am]

BILLING CODE 4150-32-P